COMMODITY FUTURES TRADING COMMISSION

Agency Information Collection Activities Under OMB Review

AGENCY: Commodity Futures Trading Commission.

ACTION: Notice.

SUMMARY: In compliance with the Paperwork Reduction Act of 1995 (PRA), this notice announces that the Information Collection Request (ICR) abstracted below has been forwarded to the Office of Management and Budget (OMB) for review and comment. The ICR describes the nature of the information collection and its expected costs and burden.

DATES: Comments must be submitted on or before January 2, 2015.

ADDRESSES: Comments may be submitted directly to the Office of Information and Regulatory Affairs (OIRA) in OMB, within 30 days of the notice's publication, by email at OIRAsubmissions@omb.eop.gov. Please identify the comments by OMB Control No. 3038-0062. Please provide the Commission with a copy of all submitted comments at the address listed below. Please refer to OMB Reference No. 3038-0062, found on http://reginfo.gov. Comments may also be mailed to the Office of Information and Regulatory Affairs, Office of Management and Budget, Attention: Desk Officer for the Commodity Futures Trading Commission, 725 17th Street NW., Washington, DC 20503, and Mark Bretscher, Division of Swap Dealer and Intermediary Oversight, Commodity Futures Trading Commission, 525 W. Monroe, Suite 1100, Chicago, IL.

Comments may also be submitted, regarding the burden estimated or any other aspect of the information collection, including suggestions for reducing the burden, identified by “Regulation Pertaining to Financial Integrity of the Forex Market Place, OMB Control No. 3038-0062” by any of the following methods:

• The Agency's Web site, at http://comments.cftc.gov/. Follow the instructions for submitting comments through the Web site.

• Mail: Christopher Kirkpatrick, Secretary of the Commission, Commodity Futures Trading Commission, Three Lafayette Centre, 1155 21st Street NW., Washington, DC 20581.

• Hand Delivery/Courier: Same as Mail, above. Please submit your comments using only one method.

All comments must be submitted in English, or if not, accompanied by an English translation. Comments will be posted as received to www.cftc.gov. If you wish the Commission to consider information that is exempt from disclosure under the Freedom of Information Act, a petition for confidential treatment of the exempt information may be submitted according to the procedures set forth in § 145.9 of the Commission's regulations.¹

¹ Commission regulations referred to herein are found at 17 CFR Ch. 1 (2014).

The Commission reserves the right, but shall have no obligation, to review, pre-screen, filter, redact, refuse or remove any or all of your submission from www.cftc.gov that it may deem to be inappropriate for publication, such as obscene language. All submissions that have been redacted or removed that contain comments on the merits of this matter will be retained in the public comment file and will be considered as required under the Administrative Procedure Act and other applicable laws, and may be accessible under the Freedom of Information Act.

FOR FURTHER INFORMATION CONTACT: Mark Bretscher, Division of Swap Dealer and Intermediary Oversight, Commodity Futures Trading Commission, 525 W. Monroe, Suite 1100, Chicago, IL 60661; (312) 596-0529; email: mbretscher@cftc.gov, and refer to OMB Control No. 3038-0062. This contact can also provide a copy of the ICR. A copy of the supporting statements for the collection of information discussed above may be obtained by visiting RegInfo.gov.

SUPPLEMENTARY INFORMATION:

Title: “Regulation Pertaining to Financial Integrity of the Forex Market Place,” (OMB Control No. 3038-0062). This is a request for extension of a currently approved information collection.

Abstract: Pursuant to amendments to the Commodity Exchange Act found in the Food, Conservation, and Energy Act of 2008, Pub. L. 110-246, 122 Stat. 1651, 2189-2204 (2008), the Commodity Futures Trading Commission promulgated a comprehensive set of rules applicable to intermediaries and counterparties engaged in the offer and sale of off-exchange forex contracts to retail customers. New requirements under Part 5 included reporting by retail foreign exchange dealers who fail to maintain required capital, reporting to customers, risk assessment filings and recordkeeping requirements.

An agency may not conduct or sponsor, and a person is not required to respond to, a collection of information unless it displays a currently valid OMB control number. The OMB control numbers for the CFTC's regulations were published on December 30, 1981. See 46 FR 63035 (Dec. 30, 1981). The Federal Register notice with a 60-day comment period soliciting comments on this collection of information was published on September 30, 2014 (79 FR 58751).

Burden Statement: The respondent burden for this collection is estimated to average 0.87 hours per response. The total annual cost burden per respondent is estimated to be $2,075. The Commission based its calculation on an hourly wage rate of $44.01 for a Compliance Officer.²

² In arriving at a wage rate for the hourly costs imposed, Commission staff used the National Industry-Specific Occupational Employment and Wage Estimates, published in May (2013 Report). The hourly rate for a Compliance Officer in the Securities and Commodity Exchanges as published in the 2010 Report was $44.01 per hour.

Respondents/Affected Entities: Retail Foreign Exchange Dealers, Futures Commission Merchants, Introducing Brokers, and other counterparties to forex transactions.

Estimated Number of Respondents: 60.

Estimated Total Annual Burden on Respondents: 2,830 hours.

Frequency of Collection: Annual and on occasion.

Authority: 44 U.S.C. 3501 et seq.

Dated: November 26, 2014.
Christopher J. Kirkpatrick,
Secretary of the Commission.

[FR Doc. 2014-28382 Filed 12-1-14; 8:45 am]

BILLING CODE 6351-01-P